DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held December 16, 2008 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Program Management Committee meeting. The agenda will include:

• Opening Plenary Session (welcome and introductions).

• Review/Approve Summary of October 2, 2008 PMC Meeting, RTCA Paper No. 263-08/PMC-664.

• Publication Consideration/Approval.

• Final Draft, Revised DO-253B, Minimum Operational Performance Standards for GPS Local Area Augmentation System Airborne Equipment, RTCA Paper No. 281-08/PMC-669, prepared by SC-159.

• Final Draft, Revised DO-246C—GNSS-Based Precision Approach Local Area Augmentation System (LAAS) Signal-in-Space Interface Control Document (ICD), RTCA Paper No.283-08/PMC-670, prepared by SC-159.

• Final Draft, Change 1 to DO-307, Aircraft Design and Certification for Portable Electronic Device (PED) Tolerance, RTCA Paper No. 272-08/PMC-666, prepared by SC-202.

• Final Draft, Revised DO-294B, Guidance on Allowing Transmitting Portable Electronic Devices (T-PEDs) on Aircraft, RTCA Paper No. 274-08/PMC-667, prepared by SC-202.

• Final Draft, New Document, Safety, Performance and Interoperability Requirements Document for Enhanced Visual Separation on Approach (ATSA-VSA), RTCA Paper No. 288-08/PMC-671, prepared by SC-186.

• Final Draft, Revised DO-262, Minimum Operational Performance Standards for Avionics Supporting Next Generation Satellite Systems (NGSS), RTCA Paper No. 289-08/PMC-672, prepared by SC-215.

• Final Draft, New Document, Minimum Aviation System Performance Standards (MASPS) for Enhanced Vision Systems, Synthetic Vision Systems and Enhanced Flight Vision Systems, RTCA Paper No. 290-08/PMC-673, prepared by SC-213.

• Action Item Review.

• SC-213—Enhanced Flight Vision Systems/Synthetic Vision Systems (EFVS/SVS)—Discussion—Committee Status and Review/Approve Terms of Reference.

• SC-214—Standards for Air traffic Data Communications Services—Discussion—Status—Review/Approve Terms of Reference.

• SC-211—Nickel-Cadmium, Lead Acid and Rechargeable Lithium Batteries—Discussion—Status—Review/Approve Terms of Reference.

• PMC Ad Hoc—Interrelationships between Communication, Navigation and Surveillance committee activities—Discussion—Recommendation Review.

• Discussion—Terms of Reference Template.

• Discussion.

• SC-218—Future ADS-B/TCAS Relationships—Discussion—Committee Status and Review/Approve Terms of Reference.

• SC-217—Terrain and Airport Databases—Discussion—Committee Status and Review/Approve Terms of Reference.

• Special Committee Chairman's Reports.

• Closing Plenary Session (Other Business, Document Production, Date and Place of Next Meeting, Adjourn).

Attendance is open to the interested public but limited to space availability. With the approval of the chairman, members of the public may present oral statements at the meeting. Persons wishing to present statements or obtain information should contact the person listed in the FOR FURTHER INFORMATION CONTACT section.

Members of the public may present a written statement to the committee at any time.

Issued in Washington, DC, on November 20, 2008.
Francisco Estrada C.,
RTCA Advisory Committee.

[FR Doc. E8-28238 Filed 11-26-08; 8:45 am]

BILLING CODE 4910-13-P